NUCLEAR REGULATORY COMMISSION

[NRC-2011-0182]

Terrestrial Environmental Studies for Nuclear Power Stations

AGENCY: Nuclear Regulatory Commission.

ACTION: Regulatory guide; issuance.

SUMMARY: The U.S. Nuclear Regulatory Commission (NRC) is issuing a revision to Regulatory Guide (RG) 4.11, “Terrestrial Environmental Studies for Nuclear Power Stations.” This guide provides technical guidance that the NRC staff considers acceptable for terrestrial environmental studies and analyses supporting licensing decisions for nuclear power reactors.

ADDRESSES: Please refer to Docket ID NRC-2011-0182 when contacting the NRC about the availability of information regarding this document. You may access information related to this document, which the NRC possesses and is publicly available, using the following methods:

• Federal Rulemaking Web site: Go to http://www.regulations.gov and search for Docket ID NRC-2011-0182. Address questions about NRC dockets to Carol Gallagher; telephone: 301-492-3668; email: Carol.Gallagher@nrc.gov.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. Revision 2 of Regulatory Guide 4.11 is available in ADAMS under Accession No. ML113350385. The regulatory analysis may be found in ADAMS under Accession No. ML113350388.

• NRC's PDR: You may examine and purchase copies of public documents at the NRC's PDR, Room O1-F21, One White Flint North, 11555 Rockville Pike, Rockville, Maryland 20852.

Regulatory guides are not copyrighted, and NRC approval is not required to reproduce them.

FOR FURTHER INFORMATION CONTACT: Mekonen Bayssie, Regulatory Guide Development Branch, Division of Engineering, Office of Nuclear Regulatory Research, U.S. Nuclear Regulatory Commission, Washington, DC 20555-0001, telephone: 301-251-7489; email: Mekonen.Bayssie@nrc.gov.

SUPPLEMENTARY INFORMATION:

I. Introduction

The NRC is issuing a revision to an existing guide in the NRC's “Regulatory Guide” series. This series was developed to describe and make available to the public information such as methods that are acceptable to the NRC staff for implementing specific parts of the agency's regulations, techniques that the staff uses in evaluating specific problems or postulated accidents, and data that the staff needs in its review of applications for permits and licenses.

Revision 2 of RG 4.11 was issued with a temporary identification as Draft Regulatory Guide, DG-4016. This guide focuses on terrestrial analyses for licensing new nuclear power stations under Title 10 of the Code of Federal Regulations (10 CFR) part 52, “Licenses, Certifications, and Approvals for Nuclear Power Plants” and power reactors under 10 CFR Part 50, “Domestic Licensing of Production and Utilization Facilities” and this guide is also useful in identifying the more limited studies and analyses needed for nuclear reactor operating license renewal under 10 CFR part 54, “Requirements for Renewal of Operating Licenses for Nuclear Power Plants,” and portions may also be relevant to nuclear reactor decommissioning.

II. Further Information

DG-4016, was published in the Federal Register on August 12, 2011 (76 FR 50274) for a 60-day public comment period. The public comment period closed on October 14, 2011. No public comments were received.

Dated at Rockville, Maryland, this 16th day of March, 2012.
For the Nuclear Regulatory Commission.
Richard A. Jervey,
Acting Chief, Regulatory Guide Development Branch, Division of Engineering, Office of Nuclear Regulatory Research.

[FR Doc. 2012-7313 Filed 3-26-12; 8:45 am]

BILLING CODE 7590-01-P